DEPARTMENT OF TRANSPORTATION

Federal Aviation Administration

14 CFR Part 39

[Docket No. FAA-2007-27269; Directorate Identifier 2006-NM-207-AD]

RIN 2120-AA64

Airworthiness Directives; Empresa Brasileira de Aeronautica S.A. (EMBRAER) Model ERJ 170 Airplanes

AGENCY: Federal Aviation Administration (FAA), Department of Transportation (DOT).

ACTION: Proposed rule; withdrawal.

SUMMARY: The FAA withdraws a notice of proposed rulemaking (NPRM) that proposed a new airworthiness directive (AD) for certain EMBRAER Model ERJ 170 airplanes. The proposed AD would have required installing updated software revisions and, as applicable, doing concurrent actions. Since the proposed AD was issued, we have received a report that all affected airplanes have already been modified as described in the proposed AD. Accordingly, the proposed AD is withdrawn.

DATES: As of July 24, 2007 the proposed rule published at 72 FR 7934, Feb. 22, 2007 is withdrawn.

ADDRESSES: You may examine the AD docket on the Internet at http://dms.dot.gov, or in person at the Docket Management Facility office between 9 a.m. and 5 p.m., Monday through Friday, except Federal holidays. The Docket Management Facility office (telephone (800) 647-5227) is located at the U.S. Department of Transportation, Docket Operations, M-30, West Building Ground Floor, Room W12-140, 1200 New Jersey Avenue SE., Washington, DC. This docket number is FAA-2007-27269; the directorate identifier for this docket is 2006-NM-207-AD.

FOR FURTHER INFORMATION CONTACT: Todd Thompson, Aerospace Engineer, International Branch, ANM-116, Transport Airplane Directorate, FAA, 1601 Lind Avenue SW., Renton, Washington 98057-3356; telephone (425) 227-1175; fax (425) 227-1149.

SUPPLEMENTARY INFORMATION:

Discussion

We proposed to amend part 39 of the Federal Aviation Regulations (14 CFR part 39) with a notice of proposed rulemaking (NPRM) for a new AD for certain EMBRAER Model ERJ 170 airplanes. That NPRM was published in the Federal Register on February 22, 2007 (72 FR 7934). The NPRM would have required installing updated software revisions and, as applicable, doing concurrent actions. The NPRM resulted from a report of an error in the implementation procedure of the Primus Epic digital software platform, which could result in improper functioning of certain flight systems. A further report indicated that current revisions of the Primus Epic software might cause blinking of all cockpit flight displays. The proposed actions were intended to prevent improper functioning of certain flight systems and blinking of cockpit flight displays, which could lead to increased pilot workload during critical phases of flight.

Actions Since NPRM Was Issued

Since we issued the NPRM, EMBRAER informed us that all Model ERJ 170 airplanes have been modified in accordance with Service Bulletin 170-31-0013, Revision 01, dated January 13, 2006 (specified as the appropriate source of service information for accomplishing the requirements of the proposed AD). EMBRAER states that, consequently, all actions specified in the NPRM are complete.

FAA's Conclusions

Upon further consideration, we have determined that the proposed AD is not necessary. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, FAA-2007-27269, directorate identifier 2006-NM-207-AD, which was published in the Federal Register on February 22, 2007 (72 FR 7934).

Issued in Renton, Washington, on July 15, 2007.
Stephen P. Boyd,
Acting Manager, Transport Airplane Directorate, Aircraft Certification Service.

[FR Doc. E7-14145 Filed 7-23-07; 8:45 am]

BILLING CODE 4910-13-P